DEPARTMENT OF COMMERCE

International Trade Administration

[A-570-815, A-533-806]

Sulfanilic Acid From India and the People's Republic of China: Final Results of Expedited Fourth Sunset Reviews of Antidumping Duty Orders

AGENCY: Enforcement and Compliance, International Trade Administration, Department of Commerce

SUMMARY: As a result of these sunset reviews, the Department of Commerce (“Department”) finds that revocation of the antidumping duty (“AD”) orders would be likely to lead to the continuation or recurrence of dumping at the dumping margins identified in the “Final Results of Reviews” section of this notice.

DATES: Effective January 5, 2017.

FOR FURTHER INFORMATION CONTACT: Mandy Mallott, AD/CVD Operations, Office III, Enforcement and Compliance, International Trade Administration, Department of Commerce, 1401 Constitution Avenue NW., Washington, DC 20230; telephone: (202) 482-6430.

SUPPLEMENTARY INFORMATION:

Background

On September 1, 2016, the Department published the notice of initiation of the fourth sunset reviews of the AD Orders ¹ on sulfanilic acid from India and the People's Republic of China (“PRC”), pursuant to section 751(c) of the Tariff Act of 1930, as amended (“the Act”).² On September 14, 2016, Nation Ford Chemical Company (“Petitioner”) notified the Department of its intent to participate within the 15-day period specified in section 351.218(d)(1)(i) of the Department's regulations. Archroma, U.S., Inc. (“Archroma”) claimed interested-party status under section 771(9)(A) of the Act as a domestic importer of subject merchandise to the United States.

¹ See Antidumping Duty Order: Sulfanilic Acid from India, 58 FR 12025 (March 2, 1993) (“India Order”), and Antidumping Duty Order: Sulfanilic Acid from the People's Republic from China, 57 FR 37524 (August 19, 1992) (“PRC Order”) (collectively, “Orders”).

² See Initiation of Five-Year (“Sunset”) Reviews, 81 FR 60386 (September 1, 2016) (“Notice of Initiation”).

On September 30, 2016, the Department received from Petitioner complete substantive responses to the Notice of Initiation, with respect to both of the Orders, within the 30-day period specified in 19 CFR 351.218(d)(3)(i).³ Also on September 30, 2016 the Department received a response from Archroma, which the Department determined did not adequately meet the requirements of a substantive response under 19 CFR 351.218(d)-(e).⁴ Specifically, Archroma failed to address and/or provide additional information required of a respondent interested party pursuant to 19 CFR 351.218(d)(3)(iii), nor did it demonstrate whether the substantive submission is eligible to be considered adequate pursuant to 19 CFR 351.218(e)(1)(ii)(A).⁵ No other interested parties submitted substantive responses. As a result, pursuant to section 751(c)(3)(B) of the Act and 19 CFR 351.218(e)(1)(ii)(C)(2), the Department has conducted expedited (120-day) sunset reviews of the AD orders on sulfanilic acid from India and the PRC.

³ See Submissions from Petitioner to the Department, “Sulfanilic Acid from the People's Republic of China/Petitioner's Substantive Response” (“PRC Substantive Response”), and “Sulfanilic Acid from India/Petitioner's Substantive Response” (“India Substantive Response”), each dated September 30, 2016.

⁴ See Submissions from Archroma to the Department, both titled “Sulfanilic Acid from India and China: Archroma's Substantive Response to Notice of Initiation,” each dated September 30, 2016. See letter from the Department to Archroma, “Sunset Reviews of Sulfanilic Acid from the People's Republic of China and India,” dated October 24, 2016.

⁵ Id.

Scope of the Orders

Imports covered by the antidumping duty orders are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.22 of the Harmonized Tariff Schedule (“HTS”), contains 96 percent minimum sulfanilic acid, 1.0 percent maximum aniline, and 1.0 percent maximum alkali insoluble materials. Refined sulfanilic acid, also classifiable under the subheading 2921.42.22 of the HTS, contains 98 percent minimum sulfanilic acid, 0.5 percent maximum aniline and 0.25 percent maximum alkali insoluble materials.

Sodium salt (sodium sulfanilate), classifiable under the HTS subheading 2921.42.90, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of these proceedings is dispositive.

Analysis of Comments Received

A complete discussion of all issues raised with respect to these sunset reviews is provided in the accompanying Issues and Decision Memorandum, which is hereby adopted by this notice.⁶ The issues discussed in the Issues and Decision Memorandum include the likelihood of continuation or recurrence of dumping and the magnitude of the margins of dumping likely to prevail if the Orders were revoked. The Issues and Decision Memorandum is a public document and is on file electronically via Enforcement and Compliance's Antidumping and Countervailing Duty Centralized Electronic Service System (“ACCESS”). ACCESS is available to registered users at https://access.trade.gov and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

⁶ See the Department's memorandum from Christian Marsh, Deputy Assistant Secretary for Antidumping and Countervailing Duty Operations, to Paul Piquado, Assistant Secretary for Enforcement and Compliance, “Issues and Decision Memorandum for the Final Results of Expedited Fourth Sunset Reviews of the Antidumping Duty Orders on Sulfanilic Acid from India and the People's Republic of China,” dated concurrently with this notice.

Final Results of the Sunset Reviews

Pursuant to sections 751(c)(1) and 752(c)(1) and (3) of the Act, the Department determines that revocation of the AD orders on sulfanilic acid from India and the PRC would likely lead to a continuation or recurrence of dumping, and that the magnitude of the dumping margins likely to prevail would be weighted-average margins up to 71.09 percent for India, and up to 85.20 percent for the PRC.

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act and 19 CFR 351.218(f)(4).

Dated: December 29, 2016.
Paul Piquado,
Assistant Secretary for Enforcement and Compliance.

[FR Doc. 2016-31993 Filed 1-4-17; 8:45 am]

BILLING CODE 3510-DS-P